DEPARTMENT OF THE INTERIOR

Fish and Wildlife Service

DEPARTMENT OF AGRICULTURE

Forest Service

Availability of a Draft Environmental Impact Statement Evaluating the Environmental Effects of Providing Fish Passage Through the Leavenworth National Fish Hatchery and Providing Riverine Habitat Within the Hatchery Grounds

AGENCY: Fish and Wildlife Service, Interior (Lead Agency); Forest Service, Agriculture (Cooperating Agency).

ACTION: Notice of availability.

SUMMARY: When the Bureau of Reclamation (Interior) built the Leavenworth National Fish Hatchery along the west bank of the Icicle Creek, a tributary to the Wenatchee and Columbia Rivers, in 1939, it modified the original Icicle Creek channel into a series of adult salmon and steelhead holding and juvenile rearing ponds. The main flow of Icicle Creek was diverted into a dammed manmade canal. Fish passage to creek areas above the hatchery was deliberately blocked. Holding and rearing fish in the modified channel worked poorly and was abandoned in 1979 when the U.S. Fish and Wildlife Service (Service) built a conventional fish ladder and two holding ponds immediately downstream of the dam at the tail end of the manmade canal. Use of the ponds in the original creek bed was abandoned.

The Service, in cooperation with the U.S. Forest Service, has completed the preparation of a draft Environmental Impact Statement addressing the potential effects on the human environment that may result from removing the obstacles in Icicle Creek to provide fish passage to areas above the hatchery and to provide riverine habitat within the hatchery grounds.

The draft Environmental Impact Statement is available for public review and comment. All comments received, including names and addresses, will become part of the administrative record and may be made available to the public.

DATES: The comment period will end on August 20, 2001.

ADDRESSES: Comments should be addressed to Ms. Corky Broaddus, Supervisory Information and Education Specialist, U.S. Fish and Wildlife Service, Leavenworth National Fish Hatchery Complex, 12790 Hatchery Road, Leavenworth, Washington 98826. Written comments may also be sent via facsimile to (509) 548-6263.

FOR FURTHER INFORMATION CONTACT: Mr. Greg Pratschner, Project Leader, U.S. Fish and Wildlife Service, Leavenworth National Fish Hatchery Complex, Leavenworth, Washington 98826, at (509)548-7641.

SUPPLEMENTARY INFORMATION:

Document Availability

Copies of the draft Environmental Impact Statement are available for review at the following government offices and libraries:

Government Offices: U.S. Fish and Wildlife Service, Leavenworth National Fish Hatchery, 12790 Hatchery Road, Leavenworth, Washington 98826, (509) 548-7641; U.S. Fish and Wildlife Service, Mid-Columbia River Fisheries Resource Office, 12790 Hatchery Road, Leavenworth, Washington 98826, (509) 548-7573; U.S. Forest Service, Leavenworth Ranger District, 600 Sherbourne, Leavenworth, Washington 98826, (509) 548-6977; U.S. Forest Service, Okanogan-Wenatchee National Forest, Supervisor's Office, 215 Melody Lane, Wenatchee, Washington 98801, (509) 662-4335.

Libraries: Leavenworth Public Library, 700 Highway 2, Leavenworth, Washington 98826, (509) 548-7923; Wenatchee Public Library, 310 Douglas, Wenatchee, Washington 98801, (509) 662-5021; East Wenatchee Public Library, 271 Ninth Street Northeast, East Wenatchee, Washington 98802, (509) 886-7404; Cashmere Public Library, 101 Woodring, Cashmere, Washington 98815, (509) 782-3314.

Background

Pursuant to the National Environmental Policy Act, the Service prepared a draft Environmental Impact Statement evaluating the consequences of a proposed action to remove instream structures in Icicle Creek, a tributary of the Wenatchee River, near Leavenworth, Washington. When the Leavenworth National Fish Hatchery (Hatchery) was built in 1939, the original Icicle Creek channel was modified into a series of salmon and steelhead holding ponds with the instream placement of weirs, dams, and a headgate which controlled flow through the ponds. Fish passage to areas above the Hatchery was deliberately blocked. Flow in Icicle Creek was diverted downstream via a manmade canal bounded on the downstream end by a velocity barrier dam and spillway. The use of the instream ponds to hold returning salmon and steelhead was abandoned in 1979 due to recurrent water temperature and water quality problems. Instead, the Hatchery constructed a conventional fish ladder and holding ponds adjacent to the spillway dam. The ladder and holding ponds are currently in use.

On March 10, 1999, the Service published in the Federal Register a Notice of Intent to prepare an Environmental Impact Statement. The stated Purpose and Need was: to provide long term, year-round, sustainable passage of native fish to habitat above the Leavenworth National Fish Hatchery; to provide riverine fish habitat through the Hatchery grounds.

The Service invites the public to comment on the draft Environmental Impact Statement. All comments received will become part of the public record and may be released. The public will have 45 days to review and comment on the draft Environmental Impact Statement. This notice is provided pursuant to the National Environmental Policy Act of 1969 (40 CFR 1506.6).

Date: June 27, 2001.
Rowan W. Gould,
Acting Regional Director, Region 1, Portland, Oregon.

[FR Doc. 01-16658 Filed 7-5-01; 8:45 am]

BILLING CODE 4310-55-P